FEDERAL COMMUNICATIONS COMMISSION

47 CFR Part 76

[MB Docket No.23-203; Report No. 3220; FR ID 258224]

Petition for Reconsideration of Action in Rulemaking Proceeding

AGENCY: Federal Communications Commission.

ACTION: Petition for Reconsideration.

SUMMARY: Petition for Reconsideration (Petition) has been filed in the Commission's proceeding by Gerard Lavery Lederer on behalf of Texas Coalition of Cities for Utility Issues.

DATES: Oppositions to the Petition must be filed on or before November 18, 2024. Replies to oppositions to the Petition must be filed on or before November 12, 2024.

ADDRESSES: Federal Communications Commission, 45 L Street NE, Washington, DC 20554.

FOR FURTHER INFORMATION CONTACT: For additional information on this proceeding, contact Joseph Price, Media Bureau, (202) 418-1423 or joseph.price@fcc.gov.

SUPPLEMENTARY INFORMATION: This is a summary of the Commission's document, Report No. 3220, released October 25, 2024. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Part 76—Multichannel Video And Cable Television Service.

Number of Petitions Filed: 1.

Federal Communications Commission.
Marlene Dortch,
Secretary, Office of the Secretary.

[FR Doc. 2024-25497 Filed 10-31-24; 8:45 am]

BILLING CODE 6712-01-P